DEPARTMENT OF DEFENSE

Office of the Secretary

Defense Science Board; Notice of Federal Advisory Committee Meeting

AGENCY: Under Secretary of Defense for Research and Engineering, Defense Science Board, Department of Defense.

ACTION: Notice of Federal Advisory Committee meeting.

SUMMARY: The Department of Defense (DoD) is publishing this notice to announce that the following Federal Advisory Committee meeting of the Defense Science Board will take place.

DATES: Day 1—Closed to the public Wednesday, May 16, 2018 from 8:00 a.m. to 5:15 p.m. Day 2—Closed to the public Thursday, May 17, 2018 from 10 a.m. to 4:45 p.m.

ADDRESSES: The address of the closed meeting is the Nunn-Lugar Conference Room, 3E863 at the Pentagon, Washington, DC 20301.

FOR FURTHER INFORMATION CONTACT: Defense Science Board Designated Federal Officer (DFO) Mr. Edward C. Gliot, (703) 571-0079 (Voice), (703) 697-1860 (Facsimile), edward.c.gliot.civ@mail.mil (Email). Mailing address is Defense Science Board, 3140 Defense Pentagon, Room 3B888A, Washington, DC 20301-3140. Website: http://www.acq.osd.mil/dsb/. The most up-to-date changes to the meeting agenda can be found on the website.

SUPPLEMENTARY INFORMATION: : Due to circumstances beyond the control of the Department of Defense (DoD) and the Designated Federal Officer, the Defense Science Board was unable to provide public notification required by 41 CFR 102-3.150(a) concerning the meeting on May 16 thru May 17, 2018, of the Defense Science Board. Accordingly, the Advisory Committee Management Officer for the Department of Defense, pursuant to 41 CFR 102-3.150(b), waives the 15-calendar day notification requirement. This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The mission of the DSB is to provide independent advice and recommendations on matters relating to the DoD's scientific and technical enterprise. The objective of the meeting is to obtain, review, and evaluate classified information related to the DSB's mission. DSB membership will meet with DoD Leadership to discuss current and future national security challenges within the DoD. This meeting will focus on matters related to Homeland Defense, Survivable Logistics, DoD Modernization Strategy, and DoD Technology Strategy.

Agenda: The DSB Spring Quarterly meeting will begin on May 16, 2018 at 8:00 a.m. with opening remarks by Edward Gliot, Designated Federal Officer, and DSB Chairman, Dr. Craig Fields. The first presentation will be from the DSB sponsor, Dr. Michael Griffin, Under Secretary of Defense for Research and Engineering who will provide a classified briefing on the views and priorities of the current administration on DoD Research and Engineering goals and strategy. Following Dr. Griffin, Dr. Will Roper, Assistant Secretary of the Air Force for Acquisition will provide a classified briefing on Air Force Modernization. Following Dr. Roper's presentation, Mr. James Geurts, Assistant Secretary of the Navy for Research, Development and Acquisition will provide a classified briefing on Navy Modernization. Following lunch, Honorable Dr. Bruce D. Jette, Assistant Secretary of the Army (Acquisition, Logistics and Technology) will provide a classified briefing on Army Modernization. The next briefing will be a presentation of findings, deliberations, and vote on the work of the Homeland Defense Task Force by Dr. Mim John and Dr. Judith Miller. The next briefing will be a presentation of findings, deliberations, and vote on the work of the Survivable Logistics Task Force by Gen Paul Kern, Ret. and Gen Duncan McNabb, Ret. The final presentations of the day will be the first two technology area working groups working on a high priority task from the USD(R&E). The Cybersecurity Group discussion will be led by Mr. Jim Gosler and the Command, Control & Communications Group discussion will be led by Mr. Al Grasso. The meeting on May 16, 2018 will adjourn at 5:15 p.m. On the second day of the meeting, May 17, 2018 the day will begin with a presentation and discussion from the Hypersonics Group led by Mr. Mark Russell and the Directed Energy Group led by Dr. Paul Kaminski. Following lunch, the following groups will engage in presentations and discussion: Space Offense & Defense Group led by Mr. Lou Von Thaer, Artificial Intelligence/Machine Learning Group led by Dr. Ruth David, Missile Defense Group led by Mr. Bob Stein, Quantum Science & Computing led by Dr. John Manferdelli, Microelectronics Group led by Dr. Victoria Coleman, Nuclear Modernization Group led by Dr. Mim John. The meeting on May 17, 2018 will adjourn at 4:45 p.m.

Meeting Accessibility: In accordance with section 10(d) of the FACA and 41 CFR 102-3.155, the DoD has determined that the DSB meeting will be closed to the public. Specifically, the Under Secretary of Defense (Research and Engineering), in consultation with the DoD Office of General Counsel, has determined in writing that the meeting will be closed to the public because it will consider matters covered by 5 U.S.C. 552b(c)(1). The determination is based on the consideration that it is expected that discussions throughout will involve classified matters of national security concern. Such classified material is so intertwined with the unclassified material that it cannot reasonably be segregated into separate discussions without defeating the effectiveness and meaning of the overall meetings. To permit the meeting to be open to the public would preclude discussion of such matters and would greatly diminish the ultimate utility of the DSB's findings and recommendations to the Secretary of Defense and to the Under Secretary of Defense (Research and Engineering).

Written Statements: In accordance with section 10(a)(3) of the FACA and 41 CFR 102-3.105(j) and 102-3.140, interested persons may submit a written statement for consideration by the DSB at any time regarding its mission or in response to the stated agenda of a planned meeting. Individuals submitting a written statement must submit their statement to the Defense Science Board DFO provided above at any point; however, if a written statement is not received at least three calendar days prior to the meeting, which is the subject of this notice, then it may not be provided to or considered by the DSB until a later date.

Dated: May 14, 2018.
Shelly E. Finke,
Alternate OSD Federal Register Liaison Officer, Department of Defense.

[FR Doc. 2018-10588 Filed 5-17-18; 8:45 am]

BILLING CODE 5001-06-P